DEPARTMENT OF TRANSPORTATION

Federal Aviation Administration

14 CFR Part 71

[Docket No. FAA-2020-0701; Airspace Docket No. 20-ASO-19]

RIN 2120-AA66

Establishment of Class D and Class E Airspace and Amendment of Class E Airspace; Nashville, TN

AGENCY: Federal Aviation Administration (FAA), DOT.

ACTION: Final rule.

SUMMARY: This action establishes Class D and Class E airspace designated as an extension to Class D or E surface area, and amends Class E airspace extending upward from 700 feet above the surface for John C. Tune Airport, Nashville, TN, as a new air traffic control tower shall service the airport. This action also updates the geographic coordinates of the airport, as well as Music City Executive Airport, (formerly Sumner County Regional Airport), Lebanon Municipal Airport, and Murfreesboro Municipal Airport. In addition, this action establishes Class E airspace extending upward from 700 feet above the surface for Vanderbilt University Hospital Heliport, as instrument approach procedures have been designed for the heliport. Controlled airspace is necessary for the safety and management of instrument flight rules (IFR) operations in the area.

DATES: Effective 0901 UTC, June 17, 2021. The Director of the Federal Register approves this incorporation by reference action under Title 1 Code of Federal Regulations part 51, subject to the annual revision of FAA Order 7400.11 and publication of conforming amendments.

ADDRESSES: FAA Order 7400.11E, Airspace Designations and Reporting Points, and subsequent amendments can be viewed online at https://www.faa.gov/air_traffic/publications/. For further information, you can contact the Airspace Policy Group, Federal Aviation Administration, 800 Independence Avenue SW, Washington, DC 20591; Telephone: (202) 267-8783. The Order is also available for inspection at the National Archives and Records Administration (NARA). For information on the availability of FAA Order 7400.11E at NARA, email fedreg.legal@nara.gov or go to https://www.archives.gov/federal-register/cfr/ibr-locations.html.

FOR FURTHER INFORMATION CONTACT: John Fornito, Operations Support Group, Eastern Service Center, Federal Aviation Administration, 1701 Columbia Ave., College Park, GA 30337; Telephone (404) 305-6364.

SUPPLEMENTARY INFORMATION:

Authority for This Rulemaking

The FAA's authority to issue rule regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends Class E airspace in Nashville, TN to support IFR operations in the area.

History

The FAA published a notice of prosed rulemaking in the Federal Register (85 FR 55627, September 9, 2020) for Docket No. FAA-2020-0701 to establish Class D and Class E airspace designated as an extension to Class D airspace for John C. Tune Airport, Nashville, TN, as a new air traffic control tower shall service the airport. Also, the FAA proposed to increase the existing Class E airspace extending upward from 700 feet above the surface, and update the geographic coordinates of several airports in the area. In addition, the FAA proposed to establish Class E airspace extending upward from 700 feet above the surface for Vanderbilt University Hospital Heliport, as instrument approaches have been designed for the heliport.

Interested parties were invited to participate in this rulemaking effort by submitting written comments on the proposal to the FAA. No comments were received.

Class D and Class E airspace designations are published in Paragraph 5000, 6004 and 6005, respectively, of FAA Order 7400.11E, dated July 21, 2020, and effective September 15, 2020, which is incorporated by reference in 14 CFR 71.1. The Class E airspace designations listed in this document will be published subsequently in the Order.

Availability and Summary of Documents for Incorporation by Reference

This document amends FAA Order 7400.11E, Airspace Designations and Reporting Points, dated July 21, 2020, and effective September 15, 2020. FAA Order 7400.11E is publicly available as listed in the ADDRESSES section of this document. FAA Order 7400.11E lists Class A, B, C, D, and E airspace areas, air traffic routes, and reporting points.

The Rule

This amendment to Title 14 Code of Federal Regulations (14 CFR) part 71 establishes Class D and Class E airspace designated as an extension to Class D airspace for John C. Tune Airport, Nashville, TN, as a new air traffic control tower shall service the airport. Also, the FAA increases the existing Class E airspace extending upward from 700 feet above the surface, from 8-miles to 8.6-miles, due to a reevaluation of the airspace. In addition, the FAA updates the geographic coordinates of the airport, as well as Music City Executive Airport (formerly Sumner County Regional Airport), Lebanon Municipal Airport, and Murfreesboro Municipal Airport, to coincide with the FAA's aeronautical database. Also, the FAA establishes Class E airspace extending upward from 700 feet above the surface for Vanderbilt University Hospital Heliport, as instrument approach procedures have been designed for the heliport. Finally, subsequent to publication of the NPRM, the FAA found that Sumner County Regional Airport is now Music City Executive Airport. This action updates the name of the airport.

FAA Order 7400.11, Airspace Designations and Reporting Points, is published yearly and effective on September 15.

Regulatory Notices and Analyses

The FAA has determined that this regulation only involves an established body of technical regulations for which frequent and routine amendments are necessary to keep them operationally current. It therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures an air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020, effective September 15, 2020, is amended as follows:

Paragraph 5000 Class D Airspace.

* * * * *

ASO TN D Nashville, TN [New]

John C. Tune Airport, TN

(Lat. 36°10′59′W″ N, long. 86°53′11″ W)

That airspace extending upward from the surface to and including 2,300 feet MSL, within a 4.1-mile radius of John C. Tune Airport. This Class D airspace area is effective during the specific dates and times established in advance by a Notice to Airmen. The effective date and time will thereafter be continuously published in the Chart Supplement.

Paragraph 6004 Class E Airspace Designated as an Extension to Class D or E Surface Area.

* * * * *

ASO TN E4 Nashville, TN [New]

John C. Tune Airport, TN

(Lat. 36°10′59′W″ N, long. 86°53′11″ W)

That airspace extending upward from the surface within 1.2-miles each side of the 198° bearing from the airport, extending from the 4.1-mile radius to 6.1-miles south of the airport, and within 1.2-miles each side of the 018° bearing from the airport, extending from the 4.1-mile radius to 6.1-miles north of the airport.

Paragraph 6005 Class E Airspace Areas Extending Upward From 700 Feet or More Above the Surface of the Earth.

* * * * *

ASO TN E5 Nashville, TN [Amended]

Nashville International Airport, TN

(Lat. 36°07′28″ N, long. 86°40′41″ W)

Smyrna Airport

(Lat. 36°00′32″ N, long. 86°31′12″ W)

Music City Executive Airport

(Lat. 36°22′30″ N, long. 86°24′30″ W)

Lebanon Municipal Airport

(Lat. 36°11′25″ N, long. 86°18′56″ W)

Murfreesboro Municipal Airport

(Lat. 35°52′43″ N, long. 86°22′39″ W)

John C. Tune Airport

(Lat. 36°10′59″ N, long. 86°53′11″ W)

Vanderbilt University Medical Center Hospital

Point In Space Coordinates

(Lat. 36°08′30″ N, long. 86°48′6″ W)

That airspace extending upward from 700 feet above the surface within a 15 mile radius of Nashville International Airport, and within a 9-mile radius of Smyrna Airport, and within a 7-mile radius of Music City Executive Airport, and within a 10-mile radius of Lebanon Municipal Airport, and within a 9-mile radius of Murfreesboro Municipal Airport, and within an 8.6-mile radius of John C. Tune Airport, and that airspace within a 6-mile radius of the Point In Space serving Vanderbilt University Medical Center Hospital.

Issued in College Park, Georgia, on November 24, 2020.
Andreese C. Davis,
Manager, Airspace & Procedures Team South, Eastern Service Center, Air Traffic Organization.

[FR Doc. 2020-26439 Filed 11-30-20; 8:45 am]

BILLING CODE 4910-13-P